ENVIRONMENTAL PROTECTION AGENCY

[FRL-6543-9]

Science Advisory Board; Emergency Notification of Public Advisory Committee Meeting

Pursuant to the Federal Advisory Committee Act, Public Law 92-463, emergency notice is hereby given that the Drinking Water Committee of the Science Advisory Board (SAB) will meet on March 13 and 14, 2000 in room 6013 of the Ariel Rios Building at the U.S. Environmental Protection Agency (EPA) located at 1200 Pennsylvania Avenue, NW, Washington, DC 20004 (the building entrance is adjacent to the Federal Triangle Metro Stop on 12th Street). The meeting is open to the public, however, seating is limited and available on a first come basis.

Purpose of the Meeting

The Committee will conduct a review of the scientific aspects of the US EPA draft proposal on the groundwater rule (GWR). In addition, the committee will be briefed on a number of other issues under active consideration by EPA's drinking water program (including research planning for the Candidate Chemical List, Long-term 1 Surface Water Treatment/Filter Backwash rule, arsenic, and possibly other topics).

Background and Proposed Charge for the Groundwater Draft Proposal

EPA is considering a rule which will specify the appropriate use of disinfection in ground water and address other components of ground water systems to assure public health protection. The GWR is scheduled to be finalized in November of 2000.

The Drinking Water Committee has been asked to address the following issues: (1) Based upon the available data, can each of the four candidate indicators (E. coli, enterococci, somatic coliphage, male-specific coliphage) be justified as a monitoring tool for determining the presence of fecal contamination in ground water? and (2) Given the available data on incidence, fate and transport of virus and bacteria through the soil/aquifer matrix, is it appropriate to monitor for both bacterial and viral indicators to determine the presence of fecal contamination?

Background and Proposed Charge for the Arsenic Review

The DWC will receive a briefing from EPA representatives on the status of EPA's proposed arsenic rule. The Committee will not be conducting its review of the Agency Arsenic proposal at the March 13-14, 2000 meeting. The intent of the briefing is to provide sufficient information to the DWC to allow it to plan the review meeting that will occur later in Fiscal Year 2000.

The current National Primary Drinking Water Regulation for arsenic of 50 micrograms per liter (ug/L) has been in effect since 1976. The 1996 Amendments to the Safe Drinking Water Act required the Agency to develop an arsenic research strategy by February 1997 to serve as road map for filling gaps in our understanding of the scientific issues surrounding arsenic and, at the same time, to work toward promulgating a new primary drinking water regulation by January 1, 2001.

The current draft Charge to the DWC asks the Committee to explore the following questions and provide its advice to the Agency: (1) Based upon the SAB's review of the health effects portion of the preamble to the proposed rule, are there any important issues that were not adequately identified or considered by the Agency in its evaluation of the NRC's report and its principal conclusions? (Examples of issues that may be of interest in this regard include the Agency's choice to concentrate on inorganic Arsenic as the principal form causing adverse human health effects; the implications of mode of action (i.e., the Agency's decision to propose an MCLG of zero and to qualitatively discuss the the fact that this is likely to overestimate risk); and the implications of the fact that arsenic is a natural element with exposure through food; and (2) Does the SAB have any particular advice on important considerations for the Agency in its evaluation of the multiple health endpoints of arsenic in drinking water, both quantified and not yet quantified (e.g., bladder, lung, cardiovascular, skin, other)?

FOR FURTHER INFORMATION CONTACT: Additional information for this meeting, or the meeting agenda, can be obtained by contacting Mr. Thomas O. Miller, Designated Federal Officer (DFO) for the Drinking Water Committee, Science Advisory Board (1400A), U.S. EPA, 1200 Pennsylvania Avenue, NW, Washington, DC 20460; by telephone at (202) 564-4558; by fax at (202) 501-0582 or via the E-Mail at: miller.tom@epa.gov, or by contacting Ms. Dorothy Clark at (202) 564-4537, by fax at (202) 501-0582, and by E-Mail at: clark.dorothy@epa.gov. Additional background information may also be obtained by contacting Mr. Eric Burneson, US EPA Office of Ground Water and Drinking Water (4607), 401 M. Street, SW, Washington, DC 20460; by telephone at (202) 260-1445; or by E-Mail at burneson.eric@epa.gov.

Providing Comments

Anyone wishing to make an oral presentation to the Committee must contact Mr. Miller, in writing (by letter, fax, or E-mail) no later than 12 noon, Thursday, March 9, 2000, in order to be included on the Agenda. The request should identify the name of the individual who will make the presentation and an outline of the issues to be addressed. The Science Advisory Board expects that public statements presented at its meetings will not be repetitive of previously submitted oral or written statements. In general, each individual or group making an oral presentation will be limited to a total time of ten minutes. Written comments (at least 35 copies) received in the SAB Staff Office sufficiently prior to the meeting date (usually one week prior), may be mailed to the committee; comments received too close to the meeting date will normally be provided to the committee at its meeting, or mailed soon after receipt by the Agency. Written comments may be provided to the committee up until 15 days after the meeting.

Additional information concerning the Science Advisory Board, its structure, function, and composition, may be found on the SAB Website (http://www.epa.gov/sab) and in The Annual Report of the Staff Director which is available from the SAB Publications Staff at (202) 564-4548 or via fax at (202) 501-0256. Individuals requiring special accommodation at SAB meetings, including wheelchair access, should contact Mr. Miller to ensure that appropriate arrangements can be made.

Dated: February 22, 2000.
Donald G. Barnes,
Director, Science Advisory Board.

[FR Doc. 00-4606 Filed 2-25-00; 8:45 am]

BILLING CODE 6560-50-P